DEPARTMENT OF ENERGY

Federal Energy Regulatory Commission

[Project No. 2004-074]

Holyoke Gas & Electric Department; Notice of Technical Conference

November 20, 2002.

On September 16, 2002, the city of Holyoke Gas & Electric Department (HG&E) filed, with the Commission, a request that the Commission schedule a technical conference to discuss outstanding issues related to the relicensing of the Holyoke Hydroelectric Project No. 2004. Commission staff will hold a technical conference with HG&E, state and federal agencies, and other interested parties in the proceeding. The conference will be held on December 5, 2002, from 10 a.m. to 4 p.m., at the Holiday Inn in Holyoke, 245 Whiting Farms Road, Holyoke, Massachusetts.

The purposes of the conference are to learn more about the post-licensing issues that have been the subject of on-going discussions since license issuance in 1999, as well as discuss any related procedural matters and steps. All local, state, and federal agencies, Indian Tribes, and interested parties are invited to attend the conference.

For further information, please contact Allan Creamer at (202) 502-8365, or via e-mail at allan.creamer@ferc.gov.

Linwood A. Watson, Jr.,
Deputy Secretary.

[FR Doc. 02-29998 Filed 11-25-02; 8:45 am]

BILLING CODE 6717-01-P